POSTAL SERVICE

39 CFR Part 111

Experimental Ride-Along Rate for Periodicals Mail

AGENCY: Postal Service.

ACTION: Final rule.

SUMMARY: This document provides notice that the Governors of the Postal Service have approved a two-year experiment allowing material that would otherwise qualify as Standard Mail (A) to “Ride-Along” with Periodicals mail for a flat rate of $0.10 per piece. This notice also establishes basic requirements and procedures for mailing Ride-Along material.

EFFECTIVE DATE: February 26, 2000.

FOR FURTHER INFORMATION CONTACT: Jerome M. Lease, 202-268-5188; or Joel Walker, 202-268-3340.

SUPPLEMENTARY INFORMATION: Under current Postal Service standards, Periodicals publications cannot contain certain types and amounts of advertising. For example, items such as cosmetic or perfume samples cannot be mailed at Periodicals postage rates. Also excluded is anything that is not comprised of printed sheets of paper or paper-like material; for example, a swatch of fabric, a pacquette of hand cream, or a CD-ROM.

All advertising matter or other enclosures or attachments that do not meet the requirements for mailing at Periodicals rates can be attached to the publication or included as enclosures but are charged Standard Mail (A) postage rates. The rate is computed as if the matter is a stand-alone piece of Standard Mail (A), even though the Standard Mail (A) matter is processed and delivered along with the rest of the Periodicals publication.

These standards require the mailer to pay processing and delivery costs for two pieces (the Periodicals publication and the Standard Mail (A) material) even though the Postal Service incurs processing and delivery costs for only one piece. Periodicals mailers maintain that this extra postage discourages advertisers from including certain kinds of advertisements in their publications. Some publishers work around this problem by including the Standard Mail (A) matter only in the copies that are sold at newsstands, thereby avoiding completely the extra postage costs.

In December 1996, the Periodicals Advisory Group (PAG), an industry group comprised of publishers and printers, recommended that the Postal Service investigate the idea of a reduced rate of postage for Standard Mail (A) material that could be combined with all Periodicals subclasses. This recommendation was supported by the Magazine Publishers of America and the American Business Press.

Acting on this recommendation, on September 27, 1999, pursuant to 39 U.S.C. 3623, the Postal Service filed with the Postal Rate Commission a request for a decision recommending an experimental “Ride-Along” classification and rate for Periodicals mail. The request was designated as Docket No. MC2000-1 by the Commission. Based on a settlement agreement reached among the parties, the Commission recommended the experimental classification and rate on February 3, 2000. This recommendation was approved by the Governors of the Postal Service on February 8, 2000, and the Board of Governors set February 26, 2000, as the implementation date for the experiment, which will last two years.

The experiment will allow a single Standard Mail (A) Ride-Along piece in a Periodicals host publication. The Ride-Along piece will be charged a flat postage rate of $0.10 per copy. There are very specific physical requirements for the Ride-Along piece, which are summarized below and detailed in the amendments to the Domestic Mail Manual (DMM) that are included in this notice. The Ride-Along postage is added separately, so that the addition of a Ride-Along piece does not affect the weight, advertising percentage, or postage for the Periodicals host piece. This experiment does not affect or change current standards for Standard Mail (A) enclosures in Periodicals.

The duration of this experiment is two years. Revenue and costs for this experiment will be attributed to Periodicals mail. The classification changes resulting from the experiment are summarized below and are detailed in the additions to the DMM included with this notice.

Over the course of the experiment, the Postal Service will collect appropriate data to determine the feasibility of a permanent classification change. Mailers also will be required to submit a sample of the host and Ride-Along mailpiece and will be asked to complete a simple questionnaire regarding the mailpiece. During the experiment, these sample mailpieces will be available for public inspection via the Manager, Pricing, 475 L'Enfant Plaza, SW, Room 6670, Washington, DC 20260-2406.

Periodicals mailers will be required to use an alternate postage statement (PS Form 3541-RX, 3541-NX, or 3541-NCX, as appropriate) so that the Postal Service can collect data on Ride-Along attachments or enclosures. No foreign copies will be reported on the Ride-Along statements, as Ride-Along pieces are not permitted in foreign copy mailings. Foreign copies and other mailings of copies without a Ride-Along enclosure or attachment will be mailed as a separate edition on regular Forms 3541-R, 3541-N, and 3541-NC. Monthly postage statements may not be used to report Ride-Along mailings.

These experimental postage statements will be used only when publishers are claiming copies with the Ride-Along rate. All copies within the mailing must contain the same Ride-Along enclosure or attachment. Ride-Along enclosures of different weights or different contents must be reported on separate postage statements.

Summary of Requirements for Ride-Along Classification Periodicals Host Pieces

This classification change applies to all subclasses of Periodicals, including pieces mailed at Regular, In-County, Nonprofit, Classroom, and Science-of-Agriculture rates. The addition of a Ride-Along Standard Mail (A) piece cannot change the shape, processing category or affect the uniform thickness of the host piece. In addition, for pieces claiming automation discounts, the addition of the Ride-Along cannot change the host piece's processing method (automation letter, FSM 881 flat, or FSM 1000 flat) or automation compatibility (e.g., turning ability and deflection, flexibility, rigidity). Publications that are automation compatible and claim automation discounts before the addition of the Ride-Along piece must remain within the constraints of the automation requirements of the host publication in order to use the Ride-Along rate and claim the automation discounts.

Ride-Along Pieces Must Be Eligible for Standard Mail (A) Rates

This classification change is applicable to Standard Mail (A) material (advertising or otherwise) attached to or enclosed with the Periodicals host copy. A flat rate of $0.10 per copy is charged for this attachment or enclosure. Under the experiment, only one Ride-Along piece can be attached to a single host copy. Mailers desiring to mail multiple Standard Mail (A) attachments or enclosures with their Periodicals copies can continue to use the current standards, which require paying postage at full Standard Mail (A) rates, or may choose to pay the Ride-Along rate for the first attachment or enclosure and Standard Mail (A) rates for subsequent attachments and enclosures. If mailers choose the latter, the Ride-Along requirements apply.

The Ride-Along piece cannot exceed 3.3 ounces, and the weight of the Ride-Along piece cannot exceed the separate weight of the Periodicals host publication. The Ride-Along enclosure or attachment can be letter-size or flat-size, as long as the Ride-Along does not change the shape or affect the uniform thickness of the host piece. All pieces within a Periodicals mailing must contain the same Ride-Along piece. Mailers are encouraged to use common sense in the selection and preparation of Ride-Along pieces to ensure the proper handling and delivery of the mail. The Postal Service will be examining the sample pieces provided by mailers and will be monitoring operations to determine compliance with the requirements and whether any unexpected increases in costs are being caused as a result of Ride-Along pieces. The Postal Service will notify the mailer of any noncompliance with the requirements and will not accept future mailings of the same type. The Postal Service will work with the mailer to remedy noncompliance. The Postal Service also may determine that a change in the requirements is necessary because of unexpected cost increases and therefore reserves the right to amend these standards during the course of the experiment.

List of Subjects in 39 CFR Part 111

Administrative practice and procedure, Postal Service.

For the reasons discussed above, the Postal Service hereby adopts the following amendments to Domestic Mail Manual G094, which are incorporated by reference in the Code of Federal Regulations (see 39 CFR part 111).

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Add the following sections to the Domestic Mail Manual as follows:

DOMESTIC MAIL MANUAL

* * * * *

G GENERAL INFORMATION

[Add new G090 to read as follows:]

G090 Experimental Classifications and Rates

[Add new G094 to read as follows:]

G094 Ride-Along Rate for Periodicals

1.0 BASIC ELIGIBILITY

1.1 Description

The standards in G094 apply to Standard Mail (A) material paid at the experimental Periodicals Ride-Along rate that is attached to or enclosed with Periodicals mail. All Periodicals subclasses (Regular, Science of Agriculture, Nonprofit, Classroom, and In-County) are eligible to use the experimental Ride-Along rate.

1.2 Basic Standards

A limit of one Ride-Along piece may be attached to or enclosed with an individual copy of Periodicals mail. In addition, Ride-Along pieces eligible under G094 must:

a. Be eligible to be mailed as Standard Mail (A).

b. Not exceed any dimensions of the host publication.

c. Not exceed 3.3 ounces or the weight of the host publication.

d. Not obscure the title of the publication or the address label.

Note: If more than one Ride-Along type piece is attached or enclosed, mailers have the option of paying Standard Mail (A) postage for all the enclosures or attachments, or paying the Ride-Along rate for the first attachment or enclosure and Standard Mail (A) rates for subsequent attachments and enclosures.

1.3 Physical Characteristics

The host Periodicals piece and the Ride-Along piece must meet the following physical characteristics where applicable:

a. The Ride-Along piece contained within a publication (bound or unbound) must be securely affixed in a manner that prevents detachment during postal processing. A loose Ride-Along enclosure with a bound publication must be enclosed in a full wrapper, polybag, or envelope with the publication. A loose Ride-Along enclosure with an unbound publication must be combined with and inserted within the publication. If the Ride-Along piece is included outside the unbound publication, the publication and the Ride-Along piece must be enclosed in a full wrapper, poly bag, or envelope.

b. A Periodicals piece (automation and nonautomation) with the addition of a Ride-Along piece must meet the standards for uniformity (C820.7), and maintain the same shape, processing category (flat or letter) as it had before the addition of the Ride-Along attachment or enclosure.

c. A Periodicals piece with a Ride-Along piece that claims automation discounts must maintain the same processing category (automation letter, FSM 881 flat, or FSM 1000 flat) and automation-compatibility (C810 and C820), as applicable, as it had before the addition of the Ride-Along attachment or enclosure. For example:

(1) If, due to the inclusion of a Ride-Along piece, an FSM 881 compatible host piece can no longer be processed on the FSM 881, but must be processed on an FSM 1000, that piece must pay either the appropriate Periodicals nonautomation rate plus the Ride-Along rate or the appropriate Periodicals automation rate for the host piece and the appropriate Standard Mail (A) rate for the attachment or enclosure.

(2) If, due to the inclusion of a Ride-Along piece, an FSM 1000 compatible host piece can no longer be processed on the FSM 1000, but must be processed manually, that piece must pay either the appropriate Periodicals nonautomation rate plus the Ride-Along rate or the appropriate Periodicals nonautomation rate for the host piece and the appropriate Standard Mail (A) rate for the attachment or enclosure.

(3) If, due to the inclusion of a Ride-Along piece, an automation letter host piece can no longer be processed as an automation letter, that piece must pay the appropriate Periodicals nonautomation rate plus the Ride-Along rate or the appropriate Periodicals nonautomation rate for the host piece and the appropriate Standard Mail (A) rate for the attachment or enclosure.

1.4 Marking and Endorsements

The endorsement “Ride-Along Enclosed” must be placed on or in the host publication if it contains an enclosure or attachment paid at the Ride-Along rate. If placed on the outer wrapper, polybag, envelope, or cover of the host publication, the marking must be set in type no smaller than any used in the required “POSTMASTER: Send change of address * * *” statement. If placed in the identification statement, the marking must meet the applicable standards. The marking must not be on or in copies not accompanied by a Ride-Along attachment or enclosure.

2.0 RATES

Each piece mailed under the standards in G094 receives a $0.10 per copy rate in addition to the postage for the Periodicals host piece.

3.0 MAILER REQUIREMENT

When mailing Ride-Along attachments or enclosures, publishers must submit the following:

a. Two copies of the applicable alternative Postage Statement (Form 3541-RX, 3541-NX, or 3541-NCX). Different Ride-Along pieces are considered separate mailings and must have different postage statements.

b. A sample of the Periodicals publication with the Ride-Along attachment or enclosure, in addition to the current required marked copy, if applicable.

c. A completed data collection questionnaire.

Stanley F. Mires,
Chief Counsel, Legislative.

[FR Doc. 00-3298 Filed 2-11-00; 8:45 am]

BILLING CODE 7710-12-U